DEPARTMENT OF AGRICULTURE

Forest Service

Greendale Project, Green Mountain National Forest, Manchester Ranger District, Town of Weston, Windsor County, Vermont

AGENCY: Forest Service, USDA.

ACTION: Notice of intent to prepare an Environmental Impact Statement.

SUMMARY: The Greendale Project (Project Area) is located on the Green Mountain National Forest (GMNF) in the Town of Weston on lands north of the Landgrove-Weston Road and west of Route 155, and affects National Forest Service System Lands adjacent to the Trout Club Rd., Moses Pond Rd., Jenny Coolidge Rd., and the Greendale Rd. The Project Area covers approximately 5,404 acres and includes portions of Forest Plan designated Management Areas 2.1A, 3.1, 4.1, and 6.2A encompassing Compartments 27, 29, 30, 31, 32, and 45. The 1986 Green Mountain National Forest Land and Resource Management Plan (Forest Plan) determined that these lands are administratively available for recreation, wildlife, fisheries and vegetation management to meet a range of resource management objectives.

The Proposed Action would treat approximately 895 acres through evenage and unevenage tree harvest using three or more commercial timber sales; harvesting approximately 4 million board feet of timber.

Evenage management would include 26 acres of overstory removal, 267 acres of thinning, 62 acres of clear-cutting scattered throughout the project area, and 154 acres of delayed shelter-wood harvest. Unevenage management would consist of 282 acres of individual and 104 acres of group tree selection harvest. The objective is to promote both aspen and softwood tree regeneration, maintain and restore the diversity of tree species & age classes, promote forest health, improve winter deer habitat, and maintain a diversity of wildlife habitats within the Project Area. The project would also restore and maintain approximately 32 acres of historic apple orchards and improve stream and fish habitat on approximately 1.5 miles of Jenny Coolidge Brook. There would be no new road construction or reconstruction of existing roads.

DATES: Written comments concerning the scope of the analysis should be received by February 20, 2002 to ensure timely consideration. The Forest Service will also conduct one or more public scoping meetings regarding this vegetation management proposal. The public will be notified as to the date, time and location of these meeting as they are scheduled.

ADDRESSES: Please send written comments to: Dennis Roy, District Ranger, Manchester Ranger District, 2538 Depot Street, Manchester Center, Vermont 05255.

FOR FURTHER INFORMATION CONTACT: Edward Toth, project leader either by writing to him at the Manchester Ranger District, 2538 Depot Street, Manchester Center, Vermont 05255 or by telephone at (802) 362-2307 Ext: 212 if you have questions about the project and the preparation of the EIS or if you would like to be on the mailing list for this project.

SUPPLEMENTARY INFORMATION: The Project Area is located within the Town Of Weston, Windsor County, Vermont. It encompasses approximately 5,404 acres of National Forest System Lands on the GMNF. The 1986 Forest Plan determined these public lands to be administratively available for recreation, wildlife and fisheries habitat improvement and vegetation management provided: (1) The proposed activities are consistent with the management prescription for each Management Area (MA), and (2) that site-specific restrictions, in the form of standards and guidelines, are implemented to protect the Project Area's natural and cultural resource values. MAs found in the Project Area are:

Management Area 2.1 (38% of the Project Area)—Uneven age management is the preferred forest management method to maintain continuous forest cover and both roaded natural and dispersed recreation opportunities.

Management Area 3.1 (16% of the Project Area)—Even age management is the preferred forest management method to maintain a mosaic of vegetative conditions in a roaded, intensively managed but natural appearing environment.

Management Area 4.1 (13% of the Project Area)—Both evenage and uneven age management would be used to provide long-term suitable, stable deer winter habitat with a mix of forest age.

Management Area 6.2a (32% of the Project Area)—Even age management, using extended rotation lengths, is the preferred silvicultural method to maintain a physical setting that provides opportunities for solitude and a feeling of closeness to nature.

General standards and guidelines found in the Forest Plan as well as site-specific measures resulting from the EIS analysis would be applied to protection Forest resources including, but not limited to: Open water, wetlands, streams and riparian areas; wet, steep, and shallow soils; designated trails; developed recreational areas; and habitat for endangered, threatened, and sensitive plant and animals.

Public participation has been, and will be, an integral component of the study process, and will be especially important at several points during the analysis. The first is during the scoping process. The Forest Service will be seeking information, comments and assistance from federal, state county and local agencies, individuals and organizations that may be interested in or affected by the proposed activities. Initial public scoping was held on April 6, 1998, and an open house was held during the same month. Preliminary issues identified for analysis in the EIS include the potential effects by, or on: (1) Recreational use of the Project Area, (2) the solitude and a feeling of closeness to nature in MA 6.2a, (3) wildlife and wildlife habitat, (4) deer habitat management, (5) project size and intensity of vegetation management, (6) economics, (7) opportunities for ecosystem restoration, (8) the spiritual setting of the Weston Priory, (9) fish and aquatic habitat and (10) threatened, endangered and sensitive species; including the federally-listed Indiana bat.

We expect these preliminary issues to be carried through this analysis. Additional scoping will be completed to coincide with this notice, giving the public an opportunity to identify any new issues or concerns.

Based on the results of scoping and the resource conditions within the Project Area, alternatives (including a no-action alternative) will be developed for the Draft EIS.

The Draft EIS is expected to be filed with the U.S. Environmental Protection Agency (EPA) and be available for review in June, 2002. At that time, EPA will publish a Notice of Availability of the Draft EIS in the Federal Register. The comment period on the Draft EIS will be 45 days from the date EPA's Notice of Availability appears in the Federal Register. The final EIS is anticipated in October, 2002.

The Forest Service believes, at this early stage, it is important to notify reviewers of several court rulings related to public participation in the environmental review process. First, reviewers of the draft EIS must structure their participation in the environmental review of the proposal so that it is meaningful and alerts an agency to the reviewer's position and contentions. Vermont Yankee Nuclear Power Corp. v. NRDC, 435 U.S. 519, 553 (1978). Also, environmental objections that could be raised at the draft environmental impact stage, but are not raised until after completion of the final environmental impact statement, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that publics interested in this proposed action participate by the close of the 45 day comment period on the draft EIS, so that substantive comments and objections are made available to the Forest Service at a time when the agency can meaningfully consider and respond to them in the final EIS.

To assist the Forest Service in identifying and considering issues and concerns on the proposed action, comments should be as specific as possible. It is also helpful if comments refer to specific pages or chapters of the draft statement. Comments may also address the adequacy of the draft environmental impact statement or the merits of the alternatives formulated and discussed in the statement.

Interested parties may wish to refer to the Council on Environmental Quality Regulations for implementing the procedural provisions of the National Environmental Policy Act at 40 CFR 1503.3.

Lead and Cooperating Agencies: The USDA Forest Service, Green Mountain National Forest is the lead agency for preparation of this document.

Responsible Official: Dennis P. Roy, District Ranger, Manchester Ranger District is the responsible Forest Service official. In making the decisions, the responsible official will consider the comments; responses; disclosure of environmental consequences; and applicable laws, regulations and policies. The responsible officials will state the rationale for the chosen alternative in the Records of Decision.

Dated: January 7, 2002.
Paul K. Brewster,
Forest Supervisor.

[FR Doc. 02-1217 Filed 1-16-02; 8:45 am]

BILLING CODE 3401-11-P